DEPARTMENT OF THE TREASURY

Internal Revenue Service

26 CFR Part 1

[TD 9330]

RIN 1545-BG66

Built-in Gains and Losses Under Section 382(h); Correction

AGENCY: Internal Revenue Service (IRS), Treasury.

ACTION: Correction to temporary regulations.

SUMMARY: This document contains a correction to temporary regulations (TD 9330) that were published in the Federal Register on Thursday, June 14, 2007 (72 FR 32792) applying to corporations that have undergone ownership changes within the meaning of section 382. These regulations provide guidance regarding the treatment of prepaid income under the built-in gain provisions of section 382(h).

DATES: This correction is effective August 1, 2007.

FOR FURTHER INFORMATION CONTACT: Keith Stanley at (202) 622-7750 (not a toll-free number).

SUPPLEMENTARY INFORMATION:

Background

The correction notice that is the subject of this document is under section 382 of the Internal Revenue Code.

Need for Correction

As published, temporary regulations (TD 9330) contain an error that may prove to be misleading and is in need of clarification.

Correction of Publication

Accordingly, the publication of the temporary regulations (TD 9330), which was the subject of FR Doc. E7-11438, is corrected as follows:

On page 32794, column 1, in the preamble, under the paragraph heading “Special Analyses”, line 4, the language “Executive Order 12666. Therefore, a” is corrected to read “Executive Order 12866. Therefore, a”.

LaNita Van Dyke,
Chief, Publications and Regulations Branch, Legal Processing Division, Associate Chief Counsel (Procedure and Administration).

[FR Doc. E7-14802 Filed 7-31-07; 8:45 am]

BILLING CODE 4830-01-P